DEPARTMENT OF TRANSPORTATION

Federal Aviation Administration

Proposed Advisory Circular (AC) 20-SV, Satellite Voice Equipment as a Means for Air Traffic Services Communications

AGENCY: Federal Aviation Administration, DOT.

ACTION: Notice of availability and requests for public comment.

SUMMARY: This notice announces the availability of and requests comments on a proposed Advisory Circular (AC) 20-SV, Satellite Voice Equipment as a Means for Air Traffic Services Communications. This proposed AC provides guidance for designers, manufacturers, and installers of satellite voice equipment used for Air Traffic Services. In it, we recommend how you get design and airworthiness approval for your equipment.

DATES: Comments must be received on or before August 2, 2004.

ADDRESSES: Send all comments on the proposed AC to: Federal Aviation Administration (FAA), Aircraft Certification Service, Aircraft Engineering Division, Avionic Systems Branch, AIR-130, 800 Independence Avenue, SW., Washington, DC 20591. Attn: Mr. David W. Robinson. Or deliver comments to: Federal Aviation Administration, Room 815, 800 Independence Avenue, SW., Washington, DC 20591.

FOR FURTHER INFORMATION CONTACT: Mr. David W. Robinson, AIR-130, Room 815, Federal Aviation Administration, Aircraft Certification Service, Aircraft Engineering Division, 800 Independence Avenue, SW., Washington, DC 20591. Telephone (202) 385-4650, FAX: (202) 385-4651. Or, via e-mail at: david.w.robinson@faa.gov.

SUPPLEMENTARY INFORMATION:

Comments Invited

Interested persons are invited to comment on the proposed AC listed in this notice by submitting such written data, views, or arguments as they desire to the above specified address. Comments received on the proposed AC may be examined, before and after the comment closing date, in Room 815, FAA Headquarters Building, 800 Independence Avenue, SW., Washington, DC 20591, weekdays except Federal holidays, between 8:30 a.m. and 4:30 p.m. All communications received on or before the closing date will be considered by the Director of the Aircraft Certification Service before issuing the final Advisory Circular.

Background

Aircraft operators have traditionally used High Frequency (HF)/Very High Frequency (VHF) communications systems for Aeronautical Operational Control and Air Traffic Services operations. Due to frequency congestion in oceanic and remote flight operations, aircraft operators have requested the use of satellite voice communication systems as a supplement to existing HF and VHF voice systems. Therefore the objective of this proposed AC is to provide guidance to allow for the airworthiness certification and evolutionary development of satellite voice during flight operations without compromising safety.

How To Obtain Copies

You may get a copy of the proposed AC from the Internet at http://www.airweb.faa.gov/rgl. Once on the RGL Web site, select “Advisory Circular”, then select the document by number. See section entitled For Further Information Contact for the complete address if requesting a copy by mail.

Issued in Washington, DC, on June 23, 2004.
Susan J.M. Cabler,
Assistant Manager, Aircraft Engineering Division, Aircraft Certification Service.

[FR Doc. 04-14871 Filed 6-29-04; 8:45 am]

BILLING CODE 4910-13-M